DEPARTMENT OF LABOR

Employment and Training Administration

Notice of Availability of Funds and Solicitation for Grant Applications (SGA) for Prisoner Re-entry Initiative Grants

Announcement Type: Notice for Solicitation for Grant Applications.

Funding Opportunity Number: SGA/DFA PY-08-03.

Catalog of Federal Domestic Assistance (CFDA) Number: 17.261.

Key Dates: The closing date for receipt of applications under this announcement is (OGCM will insert; approximately 60 days). Applications must be received no later than 4 p.m. (Eastern Time). Application and Submission information is explained in detail in Section IV of this SGA.

SUMMARY: The President's Prisoner Re-entry Initiative (PRI) seeks to strengthen urban communities characterized by large numbers of returning prisoners through an employment-centered program that incorporates mentoring, job training, and other comprehensive transitional services. This program is a joint effort of the Department of Justice (DOJ) and the Department of Labor (DOL) designed to reduce recidivism by helping inmates find work when they return to their communities, as part of an effort to build a life in the community for everyone. This spring, DOJ awarded PRI grants to 19 State correctional agencies to provide pre-release services to prisoners returning to one targeted county within the State. Under this solicitation, DOL will be awarding grants to faith-based and community organizations (FBCOs) to provide post-release services primarily to the prisoners provided pre-release services under the DOJ grant in urban communities within the target counties. This competition is limited to FBCOs operating within the target county(ies) identified in each DOJ grant. The following is the list of target counties that received a DOJ PRI grant this spring:

1. Jefferson County, AL

2. Maricopa County, AZ

3. Los Angeles County, CA

4. Denver County, CO

5. Fairfield County, CT

6. New Castle County, DE

7. Cook County, IL

8. Allen County, IN

9. Caddo and Bossier Parishes, LA *

* In this instance, the urban area stretches further than one county so applicants operating in one or both counties are permissible.

10. Baltimore County, MD

11. Genessee County, MI

12. Greene County, MO

13. Clarke County, NV

14. Mercer County, NJ

15. Erie County, NY

16. Tulsa County, OK

17. Philadelphia County, PA

18. Davidson County, TN

19. Milwaukee, WI

DOL expects that each of the 19 awardees will serve at least 100 returning prisoners during the first year of this initiative. FBCOs applying for these grants will identify as part of their application the need in the community that they plan to serve; their plan for serving released prisoners; and their partnerships with the criminal justice system, local Workforce Investment Board, housing authority, and mental health and substance abuse treatment providers.

ADDRESSES: Mailed applications must be addressed to the U.S. Department of Labor, Employment and Training Administration, Division of Federal Assistance, Attention: Jeannette Flowers, Reference SGA/DFA PY 08-03, 200 Constitution Avenue, NW., Room N-4716, Washington, DC 20210. Telefacsimile (FAX) applications will not be accepted. Information about applying online can be found in Section IV (C) of this document. Applicants are advised that mail delivery in the Washington area may be delayed due to mail decontamination procedures. Hand delivered proposals will be received at the above address.

SUPPLEMENTARY INFORMATION:

I. Funding Opportunity Description

A. Background

Each year approximately 650,000 inmates are released from State and Federal prisons and return to their communities and families. Without help, a majority of ex-prisoners do in fact return to criminal activity. According to the U.S. Department of Justice, almost three out of five returning inmates will be charged with new crimes within 3 years of their release from prison and two out of five will be re-incarcerated.

Released prisoners face a myriad of challenges that contribute to a return to criminal activity, re-arrest, and re-incarceration. Joblessness among ex-prisoners has been broadly linked to recidivism rates. Statistics demonstrate that even before incarceration, adult prisoners demonstrate weak or non-existent ties to the workforce. Data from 1997 show that nearly one-third of adult prisoners were unemployed in the month before their arrest, compared to seven percent unemployment in the general population.¹ Post-incarceration, employment rates only get worse—unemployment among ex-prisoners has been estimated at between 25 and 40 percent. Likewise, prisoners also demonstrate low levels of educational attainment. Nineteen percent of adult State prisoners are completely illiterate and 40 percent are functionally illiterate; ² over half of State parole entrants were not high school graduates and as many as eleven percent had only an eighth grade education or less.³ Additionally, the high economic cost of incarceration and the loss of large numbers of potential workers in some cities and regions across the U.S. threatens our nation's global competitiveness and in some cities and regions across America, it represents a real disincentive for business investment.

¹ Petersilia, 2002. When Prisoners Come Home: Parole and Prisoner Reentry.

² Rubinstien, 2001 as quoted in Petersilia, 2002.

³ Petersilia, 2002.

Research has also broadly documented the substance abuse and mental health issues of ex-prisoners—factors that are likely to contribute to poor education levels, un-employability, and a return to criminal activity. A study of parolees from State prisons in 1999 found that 84 percent had been using an illegal drug or abusing alcohol at the time of their offense. One-quarter had been alcohol dependent and one-quarter had been IV drug users. Fourteen percent had a mental illness and twelve percent were homeless at the time of their arrest. In some States, nearly one-quarter of parole revocations were related to drug-related violations.⁴ Estimates of mental illness among the prison population vary. One study found that sixteen percent of State prison and local jail inmates had a mental illness as did seven percent of Federal prisoners. Among detainees with a mental disorder, 72 percent also had a substance abuse disorder.⁵ In a survey of prisoners, one-fourth of male adults and more than one-third of female adults reported having been treated at some time for a mental or emotional problem.⁶ Only one-third of adult male detainees and one-fourth of females who needed services for severe mental disorders received treatment in jail.⁷

⁴ Hughes, T.A., Wilson, D.J., and Belk, A.J., 2001, Trends in State Parole, 1990-2000. Bureau of Justice Statistics, Special Report, NCJ 184735.

⁵ Ditton, P.M., 1999, Mental Health and Treatment of Inmates and Probationers, Washington, DC: U.S. Department of Justice.

⁶ Harlow, C.W., 1998, Profile of Jail Inmates, 1996, Bureau of Justice Statistics Special Report, Washington, DC: U.S. Department of Justice, NCJ164620.

⁷ Substance Abuse and Mental Health Services Administration, 2002, Report to Congress on the Prevention and Treatment of Co-occurring Substance Abuse Disorders and Mental Disorders.

In returning to criminal activity, ex-prisoners contribute to the presence of violence and crime in already struggling neighborhoods and reduce their chances of living healthy and positive lives and strengthening their families. Research indicates that parental loss is related to a host of poor outcomes for children that include poverty, drug abuse, educational failure, criminal behavior, and premature death. Healthy and consistent relationships between parents and children strengthen the community by positively impacting both parent and child generations. Ex-offenders who maintain strong family and community ties have greater success in reintegrating into the community and avoiding incarceration.⁸

⁸ Hairston, 1991; Muston, 1994; Nelson, 1999.

In order to successfully reintegrate into the community it is essential that ex-offenders possess the skills and support necessary to enter and compete in the workforce. The Prisoner Re-entry Initiative is designed to draw on the unique strengths of faith-based and community-based organizations and to rely on them as a primary partner for social service delivery to ex-prisoners by providing a direct link into the communities to which the ex-prisoners are returning. It also seeks to coordinate the provision of these services with supervision of these released prisoners to ensure they are held accountable for their behavior upon release.

Community-based partners are well suited for this work because they can provide the resources and infrastructure that are necessary to intervene in the lives of returnees and interrupt cycles of crime and incarceration. This grant will rely heavily on FBCOs to develop relationships and ensure connections to rehabilitation services for the formerly incarcerated.

In addition, FBCOs will be utilized in this grant because evidence indicates that faith-based and community institutions are among the strongest, most trusted institutions in the urban neighborhoods to which the majority of released inmates will return. Local faith-based and community institutions are a significant presence, with many resources at their command—including buildings, volunteers, and a tradition of outreach and service.⁹ Churches, mosques, temples, and community centers are especially significant in poor urban areas where FBCOs have historically had a strong presence. The additional trust that many FBCOs have earned outside urban centers is invaluable, since collaboration and communication with public, private and nonprofit providers and policymakers are essential to helping those in resource-poor neighborhoods.

⁹ Branch, 2002. Faith and Action: Implementation of the National Faith-Based Initiative for High-Risk Youth, Public/Private Ventures.

Many FBCOs also possess a proven ability to work collaboratively with other service providers and justice agencies for the delivery of social services. This is an invaluable asset as the FBCOs that operate in poor urban neighborhoods are typically small and have limited financial resources. For them to effectively ensure connections to job training and social services, it is critical that they build collaborations with other public and private organizations.

A substantial number of inner-city faith-based and community organizations already have re-entry programs, including 30 Generation 1 PRI Grantees awarded in 2005 and 23 Generation 2 PRI Grantees just awarded this spring. This set of Generation 3 PRI Grantees will serve to further expand the number of such reentry programs in the country.

B. Objectives

The Prisoner Re-entry Initiative is designed to strengthen urban communities through an employment-centered program that incorporates mentoring, job training, and other comprehensive transitional services. This program seeks to reduce recidivism by helping inmates find work when they return to their communities, keep those jobs and increase their earnings over time. In the local areas served through this initiative, FBCOs will provide comprehensive and coordinated services to ex-offenders in the following four areas:

• Employment: Employment is a critical stabilizing factor for ex-offenders and this initiative will stress job placement, job retention, and increasing the earnings potential of released prisoners. FBCOs will offer job training and job placement services in coordination with business, local One-Stop Centers, educational institutions, and other employment providers. Partnering faith-based and community organizations will provide each program participant with work-readiness, soft skills training, mentoring, job placement or referral for job placement, and follow-up services to increase job retention.

• Vocational Training and Educational Services: Educational attainment is increasingly critical in the global economy. A vast majority of jobs now require more than a high school diploma. FBCOs should conduct assessments and work with participants to create individual development plans to connect participants to continuing education services (either toward the attainment of a high school diploma or GED or toward the attainment of an Associate's or Bachelor's degree), based on the participant's needs and interests, by partnering with adult education agencies, community colleges and other education providers. As well, FBCOs should partner to offer opportunities for advanced vocational training with the goal of industry-recognized certifications, particularly in high-growth, high-demand fields in the local economy.

• Mentoring: Mentoring is a key element of re-entry support. Previous research and programming have demonstrated the benefits of mentoring in reducing recidivism and supporting returning offenders. FBCOs will provide post-release mentoring and other services essential to reintegrating ex-offenders in coordination with the corrections, parole, and probation structure. Participating adult ex-offenders will be matched with appropriate mentors who will be primarily responsible for supporting the returnee in the community and the workplace. Mentors will offer support, guidance, and assistance with the many challenges faced by ex-offenders. For the purposes of the Prisoner Re-entry Initiative, mentoring is defined as a relationship over a prolonged period of time between two or more people where caring volunteer mentors assist ex-prisoners in successfully and permanently reentering their communities by providing consistent support as needed, guidance, and encouragement that impacts PRI participants in developing positive social relationships and achieving program outcomes such as job retention, family reunification, reduced recidivism, etc.

• Referral to Necessary Supportive Services: While funds provided under this grant must not be used to provide housing, health care, or alcohol or substance abuse treatment, DOL expects that grantees will develop partnerships with the necessary social services agencies within their communities so as to be able to refer released prisoners to these necessary services. In particular, grantees should be connecting with the Department of Veterans Affairs (DVA) through the local workforce system's Local Veterans' Employment Representative (LVER) and Disabled Veterans' Outreach Program (DVOP) to serve participants who are veterans. These partnerships should enable service providers to increase the number of successful outcomes at minimal expense since eligible veterans receive a plethora of services including housing, medical, and substance abuse treatment through a Nationwide network of services. Further, the DVA has programs for incarcerated veterans through their Regional offices that may prove invaluable during the marketing of said program since veterans are a known commodity.

C. Design and Structure of the Initiative

What Is the Overall Structure of This Initiative?

This spring, DOJ awarded PRI grants to 19 State criminal justice and other State agencies to provide pre-release services to prisoners returning to one targeted county within the State. Under this solicitation, DOL will be awarding grants to faith-based and community organizations (FBCOs) to provide post-release services to the prisoners provided pre-release services under the DOJ grant in urban communities within the county(ies) targeted by DOJ. DOL will make one award in each of the targeted counties named in the DOJ awards. This competition is limited to FBCOs operating within the target county(ies) identified in each DOJ grant. The list of these target counties can be found in the “Summary” at the beginning of this solicitation. DOL expects to serve 2,000 released prisoners during each year of this initiative. As well, the DOJ grants include a requirement of a 30 percent sub-award to a local FBCO in the targeted county. This sub-award may or may not go to the FBCO awarded under DOL's solicitation.

To apply for these grants, FBCOs must identify an urban community within the targeted county(ies) and describe the need for this Federal support in that community and their plan for providing services to released prisoners. They must also demonstrate that they have established partnerships with the criminal justice system, local Workforce Investment Board, and the local housing authority. They must also identify their plan to leverage other Federal, State, or local resources, as well as private sector resources, to provide other support services that are not directly funded through this initiative such as substance abuse and mental health treatment.

Given that DOL plans to award grants to 19 FBCOs in the counties that are the focus of the recently awarded DOJ grants, FBCOs in one county will not be competing against FBCOs in another county. Rather, DOL expects that more than one FBCO will be applying for a grant in each of the target county areas within the 19 DOJ-awarded States, so that FBCOs will be competing against other FBCOs in their same county(ies). If only one organization applies within a county, a review panel will assess that application and a technical acceptability determination will be made. If determined to be technically unacceptable, DOL reserves the right to not make an award within that county.

Who Will Be the Grant Recipients Under This Initiative?

The recipients of the DOL grants will be faith-based and community organizations that are located in or have a pre-existing staff presence in an urban community within the target county(ies) being served.

How Large a Grant Should I Apply for?

FBCOs should apply for a grant of $300,000 to cover their first year of operations. Funds will be awarded under this initiative through grants for an initial period of 1 year, with up to two additional years of funding depending on the availability of funds and demonstrated performance. If funding is available beyond the first 3 years, additional years of performance may be awarded through a competitive reevaluation based on satisfactory performance and/or other factors. The level of funding for additional years of operation may be greater or less than the initial award amount depending on the availability of funds.

What Is the Target Group To Be Served Under These Grants?

Generally, grantees should plan to serve individuals 18 years old and older who have been convicted as an adult and imprisoned pursuant to an Act of Congress or a State law, and who have never been convicted of a sex-related offense other than prostitution who have been referred to the FBCO from the DOJ State criminal justice agency grantee. Additional information on eligible participants is provided in Section III(A). It is expected that participants referred from DOJ grantees' pre-release programs will have been assessed for risk based on a validated tool and that participants recruited directly from the local community, beyond those they accept from the DOJ grantee referrals, would only be eligible if they did not have a violent presenting or past offense or any sex-related offenses.

What Are Allowable Uses of Grant Funds?

DOL grant funds can be used to provide a variety of services to returning prisoners, including workforce development services, education and vocational training, job training, on-the-job training, work experience, basic skills remediation, counseling and case management, mentoring, and other reentry services. DOL grant funds may also be used for up to 3 months of pre-release services, including orientation, developing post-release plans, building relationships between project staff and prisoners, assisting prisoners to obtain documents necessary for employment upon release, and other activities necessary to establishing program connections with prisoners prior to their release. These funds can also be used to provide incentives to participants for participating in the program and up to 1.5 percent of DOL grant funds may be used to provide needs-based payments to participants, though FBCOs must have a standard and consistent policy in place as to how incentives and needs-based payments are provided to participants.

Will There Be a Planning Period After Grant Award?

FBCOs will be allowed up to 4 months of their first year of operations to put into place their various local partnerships and to hire additional staff, if necessary. The probability of continuation of grants beyond the first year will be greatly reduced for those grantees that do not begin providing services by the end of the first 4 months.

How Will Success Be Measured Under These Grants?

Grantees will be held to nationally established performance goals. Four outcome measures will be used to measure success in these grants: entered employment rate, employment retention rate, average earnings, and recidivism rate. In addition, grantees will report on a number of leading indicators that will serve as predictors of success. Leading indicators will include: enrollment rate; percentage of enrollees participating in mentoring; participation in education, training, and workforce preparation; attainment of degrees and certificates; reduced substance abuse; proportion of enrollees in stable housing; and proportion of enrollees complying with parole conditions. In applying for these grants, FBCOs agree to use DOL's Web-based Management Information System (MIS) and to submit Quarterly Performance Reports (QPRs) that contain data on enrollee characteristics, services provided, placements, outcomes, and follow-up status.

Will There Be an Evaluation of This Initiative?

ETA will require that the program or project participate in an evaluation of overall performance of Prisoner Re-Entry Initiative grants. To measure the impact of the Prisoner Re-Entry Initiative programs, ETA will arrange for or conduct an independent evaluation of the outcomes and benefits of the projects. Applicants must agree to fully participate in the evaluation by making records on participants, employers and funding available, and to provide access to program operating personnel and participants, as specified by the evaluator(s) under the direction of ETA, including after the expiration date of the grant.

D. Guidelines for Technical Proposal

How Should I Organize My Technical Proposal?

Organize your technical proposal to answer the questions below. The criteria below will be used to evaluate your proposal. Points will be deducted from applications that are not fully responsive to these questions. The technical questions are as follows:

1. What is the need for the project in the urban community with the target county(ies) to be served by the grant? (10 points)

Identify the urban community within the county(ies) that you propose to serve through your grant and describe its need for this Federal support. Demonstrate how your community can benefit from Federal assistance due to being an urban area heavily impacted by high numbers of returning prisoners and high rates of recidivism. Use census tract data from the 2000 census to show the population of the community, its poverty rate, and its unemployment rate. Use local law enforcement data to show the crime rate and recidivism rate for the community and how this compares with the State or county as a whole. Use data at the neighborhood level rather than the county level in addressing the need for your project.

Applicants will be evaluated based on their ability to demonstrate the need for Federal assistance. This will be assessed by the following elements:

• Number of returning offenders to the urban community identified;

• Rate of recidivism, relative to the target county and the state overall; and

• Unemployment and poverty levels of the community.

2. What Is the Project Design and Service Strategy? (55 points total)

Describe the project design and service strategy for each of the following required program components.

How Do You Plan To Increase the Employment and Education Opportunities of Released Prisoners Who You Will Be Serving? (25 points)

Describe how you will use funds available under this grant to increase the employment opportunities of released prisoners. Describe how you will use assessments to identify the potential for increasing educational attainment of participants, either through the attainment of a GED or through post-secondary education or vocational training. Discuss how you will provide work-readiness training, job placement, and post-placement support. Often a condition of release is to find employment quickly. How will you help these persons find a job soon after their release from prison? Describe how you will work with employers to identify and create job openings for released prisoners. Where applicable, applicants should include letters of commitment from employers detailing how they will train and/or hire participants of the initiative. How will you connect participants with jobs in high-growth, high-demand industries, particularly those most likely to hire ex-offenders. How will you link with WIRED and other DOL-funded workforce development projects in your area? Be sure to indicate how many direct-service staff will be hired with these grant funds to assist released prisoners find employment and justify the need.

How Will You Coordinate With Other Agencies To Obtain Housing Services to Released Prisoners? (10 points)

Funds awarded under this initiative must not be used to provide housing services for participants, but grantees are expected to coordinate with agencies that provide such services. Discuss partnerships in place to provide both transitional housing and permanent housing to released prisoners. Applicants should include letters of commitment detailing the partnerships in place, expected roles of partners and how these partners will coordinate efforts to assist this initiative. Discuss options for assisting released prisoners who need to put a deposit on an apartment. Please note that McKinney Vento Supportive Housing Program (SHP) transitional and permanent housing funded through the Continuum of Care application process cannot be used for ex-offenders.

How Will You Provide Mentoring for the Released Prisoners Who You Will Be Serving? (10 points)

Mentoring is a key part of this initiative and we expect that you will be able to offer mentors to each of the released prisoners who desires these services. Discuss your plans for providing mentors to released prisoners. Describe any experience that you have in operating mentoring programs or how you will develop this capacity. Describe how the mentoring component will be administered and staffed. Describe how you will involve other local faith-based and community organizations in recruiting mentors for this project. Describe what training you will provide to mentors. Discuss who you will recruit to serve as mentors (i.e., former prisoners that have successfully reintegrated back into society).

How Will You Coordinate Alcohol and Drug Treatment and Other Health and Supportive Services to Released Prisoners Who Require Such Assistance? (10 points)

Provide examples of local partnerships that you have developed or will develop to secure treatment and support services for released prisoners. Because grant funds cannot be used to provide alcohol and drug treatment, give examples of other resources that are available to provide such services. Also give examples of local partnerships you have developed or will develop to provide physical and mental health services and provide letters of commitment detailing the partners' roles, where applicable. Many released prisoners will be under court orders to pay child support and/or restitution. How will you assist these individuals in complying with these court orders? How will you partner with agencies that serve ex-offenders, including SAMHSA, Veterans Affairs, etc.? Describe how your program will connect with workforce system programs to provide services to eligible veterans, such as Local Veterans' Employment Representatives (LVERs), Disabled Veterans Outreach Program (DVOP) specialists, and in particular, the Department of Veterans' Affairs Veterans' Integrated Service Network (VISN) including the Incarcerated Veteran Re-Entry Specialist that is assigned to VISN in the area being served and the programs provided to incarcerated veterans through the VISN.

For this criterion, applicants will be evaluated on how comprehensive and collaborative their program design is. Particular elements to be evaluated include:

• Partnerships with expected partners, including State criminal justice agencies, probation and parole, Workforce Investment Boards, housing partners, and other service providers (including alcohol and drug treatment and mental health services);

• Design of program elements, including employment and education placements, job training, connections to employers (particularly in high-growth, high-demand fields), and mentoring; and

• Description of asset mapping or similar strategies to locate and connect to existing resources in the area to provide support services.

3. How Have You Coordinated in the Past and How Do You Plan To Coordinate With State Criminal Justice Agencies, Probation, and Parole in the Operation of Your Program? (20 points)

Describe your plans for working with State criminal justice agencies, probation and parole in operating your program. Describe your plans for obtaining referrals from State criminal justice agencies (the majority of participants served by these grants should be direct referrals from the DOJ PRI grant) and in gaining permission to enter prisons for introductory meetings with prisoners soon to be released into your community. Describe how you plan to coordinate with parole and probation in providing post-release services for former prisoners. Applicants should provide letters of commitment detailing the roles of each partner and how participants will be referred if possible. Describe past experience and/or contracts in which you worked with the criminal justice agency in your State. Describe how you will partner collaboratively with the State criminal justice agency to meet the expected outcomes of this grant, including receiving referrals and on-going updates regarding participant recidivism from the criminal justice agency.

Applicants will be evaluated based on the following criteria:

• The existence of previously established relationships with criminal justice agencies and probation and parole; and

• The strategy for obtaining an on-going method of referrals for soon-to-be-released offenders.

4. What is the quality and experience of your organization to operate this initiative? (15 points)

Describe your organization and its qualifications for serving as the local FBCO in this initiative. How long has your organization been in existence in the area you plan to serve? What services and programs has it previously provided in the urban area to be served by the grant? Discuss the experience of the organization in operating re-entry and employment programs, including the results of those programs (in terms of individual service outcomes). Describe the qualifications of key staff persons of your organization who may work on this project, and their specific experience relating to this project. Also describe previous experience of the organization in operating grants from either Federal or non-Federal sources. Describe the fiscal controls in place in your organization. What is your organization's current annual budget? Also describe how you would expect to continue serving ex-offenders once the Federal grant funds have been expended. What is your organization's sustainability plan?

Applicants will be evaluated on the strength of their organizational experience. Particular criteria include:

• Length of time applicant has been operating in the identified urban area within the target county(ies);

• Previous experience of the applicant in serving ex-offenders with re-entry and employment services;

• Experience of key staff in relation to developing employment and education programming for re-entry populations; and

• The applicant's sustainability plan for continuing to serve this population.

II. Award Information

What type of assistance instrument will be awarded under this initiative?

Funds will be awarded under this initiative through grants for an initial period of 1 year, with up to two additional option years depending on the availability of funds and demonstrated performance. If funding is available beyond the first 3 years, additional years of performance may be awarded through a competitive reevaluation based on satisfactory performance and/or other factors.

What is the expected number of awards?

DOL expects to award grants for 19 projects.

What is the total amount expected to be awarded through this announcement?

DOL expects to award a total of $5.7 million in initial grants through this announcement.

What is the expected amount of individual awards?

DOL expects that initial awards will be approximately $300,000.

III. Eligibility Information and Other Grant Specifications

A. Eligible Applicants

Am I an eligible applicant for these grants?

You are eligible to apply for the DOL grants if you are a faith-based or community organization and are located within or have a pre-existing staff presence in an urban community within the target county(ies) identified in the SUMMARY at the beginning of this solicitation.

Who is eligible to be served under these grants?

Individuals 18 years old and older who have been convicted as an adult and imprisoned pursuant to an Act of Congress or a State law, and who have never been convicted of a sex-related offense other than prostitution can be served with these grants. The majority of participants served by these grants should be direct referrals from the DOJ PRI grant. However, individuals who have been recruited from the community may also be served. Such recruits must be enrolled in the program within 180 days after their release from prison or a halfway house, except that up to 10 percent of individuals served can be enrolled over 180 days after their prison release. Services may be provided to individuals who have been released from prison and are residing in a halfway house. Participants referred from the DOJ grantees' pre-release programs will have been given a risk assessment but if the DOL grantee chooses to enroll additional participants from the community, these returning offenders should not have a violent presenting or past offense. The Grant Officer will consider the use of waivers to serve individuals with violent past or presenting offenses if necessary. These waivers would require the use of a validated risk assessment tool.

This program is subject to the provisions of the “Jobs for Veterans Act,” Public Law 107-288, which provides priority of service to veterans and spouses of certain veterans for the receipt of employment, training, and placement services in any job training program directly funded, in whole or in part, by the Department of Labor. Please note that, to obtain priority of service, a veteran must meet the program's eligibility requirements. ETA Training and Employment Guidance Letter (TEGL) No. 5-03 (September 16, 2003) provides general guidance on the scope of the veterans priority statute and its effect on current employment and training programs, and additional guidance is available at the “Jobs for Veterans Priority of Services Web site” (http://www.doleta.gov/programs/VETS/).

B. Cost Sharing or Matching

Is cost sharing or matching required for these grants?

No, cost sharing or matching is not required, although leveraging of resources is strongly encouraged in order to maximize the impact of the project in the identified county. Applicants should describe what resources, new and existing, may support the goals of the project. While the failure to offer leveraged resources as a part of an application will not preclude consideration of the application, it will place the applicant at a competitive disadvantage over applicants that do so to the extent that an applicant's ability to arrange for the provision of separately funded housing, alcohol and drug treatment and other health and social services will be factored into the evaluation of the application. Leveraging of existing resources and committed partners are an integral part of the PRI program model and are necessary for a successful reentry program.

IV. Application and Submission Information

A. Address To Request Application Package

This SGA includes all information and links to forms needed to apply for grant funding.

B. Content and Form of Application Submission

What are the content and form of application submission?

The proposal must consist of two (2) separate and distinct parts, Parts I and II. Applications that fail to adhere to the instructions in this section will be considered non-responsive and may not be given further consideration. Applicants who wish to apply do not need to submit a Letter of Intent. The completed application package is all that is required.

Part I of the proposal is the Cost Proposal and must include the following three items:

• The Standard Form (SF) 424, “Application for Federal Assistance” (available at http://www.doleta.gov/grants/find_grants.cfm). The SF 424 must clearly identify the applicant and be signed by an individual with authority to enter into a grant agreement. Upon confirmation of an award, the individual signing the SF 424 on behalf of the applicant will be considered the Authorized Representative of the applicant. In block 14 of the SF 424, the applicant must specify the single county(ies) in which they plan to serve. This designated county (or two in the instance of Louisiana) must be on the list of target counties that received a DOJ PRI grant this spring. The list can be found in the SUMMARY at the beginning of this solicitation. DOL will deem non-responsive any application that fails to designate the target county in which they will be operating.

• All applicants for Federal grant and funding opportunities are required to have a Data Universal Numbering System (DUNS) number provided by Dun and Bradstreet. See Office of Management and Budget (OMB) Notice of Final Policy Issuance, 68 FR 38402, June 27, 2003. Applicants must supply their DUNS number on the SF 424. The DUNS number is a nine-digit identification number that uniquely identifies business entities. Obtaining a DUNS number is easy and there is no charge. To obtain a DUNS number, access this Web site, http://www.dunandbradstreet.com, or call 1-866-705-5711.

• The SF 424A Budget Information Form (available at http://www.doleta.gov/grants/find_grants.cfm). In preparing the Budget Information Form, the applicant must provide a concise narrative explanation to support the request. In addition, there should be a detailed back-up budget that includes the number of staff to be hired, delineated by position titles.

Please note that applicants that fail to provide the SF 424, SF 424A, and the budget narrative will be removed from consideration prior to the technical review process. If the proposal calls for integrating WIA or other Federal funds or includes other leveraged resources, these funds should not be listed on the SF 424 or SF 424A Budget Information Form, but should be described in the budget narrative.

Applicants are also encouraged, but not required, to submit OMB Survey N. 1890-0014: Survey on Ensuring Equal Opportunity for Applicants, which can be found at http://www07.grants.gov/agencies/forms_repository_information.jsp.

Part II of the application is the Technical Proposal, which demonstrates the applicant's capabilities to plan and implement the Prisoner Re-entry Initiative in accordance with the provisions of this solicitation. The Technical Proposal is limited to twenty (20) double-spaced, single-sided, 8.5 inch x 11 inch pages with 12 point text font and one-inch margins. Applicants should number the Technical Proposal beginning with page number one. Any pages over the 20 page limit will not be reviewed. The guidelines for the content of the Technical Proposal are provided in Section I (D) of this SGA.

In addition, the applicant must provide letters of support from the criminal justice agencies which will release the prisoners and supervise their release in the community and the local Workforce Investment Board; a Time Line outlining project activities; and a two-page Executive Summary. These additional materials do not count against the 20-page limit for the Technical proposal, but may not exceed fifteen (15) pages. Any supplemental materials over this page limit will not be read.

Applications may be submitted electronically on www.grants.gov or in hard-copy via U.S. mail, professional overnight delivery service, or hand delivery. These processes are described in further detail in Section IV (C). Applicants submitting proposals in hard-copy must submit an original signed application (including the SF 424) and one (1) “copy-ready” version free of bindings, staples or protruding tabs to ease in the reproduction of the proposal by DOL. Applicants submitting proposals in hard copy are also requested, though not required, to provide an electronic copy of the proposal on CD-ROM.

C. Submission Dates, Times, and Addresses

What is the closing date for applications?

The closing date for receipt of applications under this announcement is November 4, 2008. Applications must be received at the address below no later than 4 p.m. (Eastern Time). Applications sent by e-mail, telegram, or facsimile will not be accepted. Applications that do not meet the conditions set forth in this notice will not be honored. No exceptions to the mailing and delivery requirements set forth in this notice will be granted.

To what address should I send my application?

To apply by mail, please submit one (1) blue-ink signed, typewritten original of the application and two (2) signed photocopies in one package to the U.S. Department of Labor, Employment and Training Administration, Division of Federal Assistance, Attention: Jeannette Flowers, Reference SGA/DFA PY-08-03, 200 Constitution Avenue, NW., Room N-4716, Washington, DC 20210. Information about applying online through http://www.grants.gov can be found in the next paragraph of this section. Applicants are advised that mail delivery in the Washington area is delayed due to mail decontamination procedures. Hand delivered proposals will be received at the above address.

Applicants may apply online through grants.gov (http://www.grants.gov). It is strongly recommended that applicants applying online for the first time via grants.gov immediately initiate and complete the “Get Registered” registration steps at http://www.grants.gov/applicants/get_registered.jsp. These steps may take multiple days or weeks to complete, and this time should be factored into plans for electronic application submission in order to avoid unexpected delays that could result in the rejection of an application. It is highly recommended that online submissions be completed at least 3 working days prior to the date specified for the receipt of applications to ensure that the applicant still has the option to submit by overnight delivery service in the event of any electronic submission problems. If submitting electronically through grants.gov, the components of the application must be saved as either .doc, .xls or .pdf files.

Late Applications: Any application received after the exact date and time specified for receipt at the office designated in this notice will not be considered, unless it is received before awards are made, was properly addressed, and: (a) Was sent by U.S. Postal Service registered or certified mail not later than the fifth calendar day before the date specified for receipt of applications (e.g., an application required to be received by the 20th of the month must be post marked by the 15th of that month) or (b) was sent by professional overnight delivery service or submitted on grants.gov to the addressee not later than one working day prior to the date specified for receipt of applications. An application submitted through grants.gov will not be considered “received” by the Department of Labor unless it is: electronically submitted on grants.gov prior to the deadline; “validated” by grants.gov; and forwarded by grants.gov to the Department of Labor. It is highly recommended that online submissions be completed three working days prior to the date specified for receipt of applications to ensure that the applicant still has the option to submit by professional overnight delivery service in the event of any electronic submission problems. Applicants take a significant risk by waiting until the last day to submit by grants.gov. “Postmarked” means a printed, stamped or otherwise placed impression that is readily identifiable, without further action, as having been supplied or affixed on the date of mailing by an employee of the U.S. Postal Service. Therefore, applicants should request the postal clerk to place a legible hand cancellation “bull's eye” postmark on both the receipt and the package. Failure to adhere to the above instructions will be a basis for a determination of non-responsiveness. Evidence of timely submission by a professional overnight delivery service must be demonstrated by equally reliable evidence created by the delivery service provider indicating the time and place of receipt.

D. Intergovernmental Review

Is an Intergovernmental Review required?

This funding opportunity is not subject to Executive Order (EO) 12372, “Intergovernmental Review of Federal Programs.”

E. Cost Principles

All proposal costs must be necessary and reasonable in accordance with Federal guidelines. Determinations of allowable costs will be made in accordance with the applicable Federal cost principles, e.g., 29 CFR 95.27; Non-Profit Organizations—OMB Circular A-122. Disallowed costs are those charges to a grant that the grantor agency or its representative determines not to be allowed in accordance with the applicable Federal Cost Principles or other conditions contained in the grant. Applicants will not be entitled to reimbursement of pre-award costs.

DOL grant funds must not be used to provide substance abuse treatment. Such treatment should be made available to persons enrolled in the program using resources available through partnerships with other agencies. DOL grant funds must not be used to provide housing assistance to participants. It is expected that grantees will leverage existing community resources and provide referrals to housing assistance through community organizations and local agencies. DOL grant funds must not be used to provide assistance to participants to cover the cost of healthcare. It is expected that grantees will utilize existing resources in the community and refer participants to these providers. DOL grant funds cannot be used to pay for food to participants except as a needs-based payment through which the participant can purchase food or by providing food baskets or vouchers for food and household items as a supportive service to enrollees. In the instance of these needs-based payments, it is expected that the grantee will have a detailed policy in place regarding the allowability and frequency of such provisions and such payments should not exceed more than 1.5 percent of the grant program's total operating budget.

Indirect Costs. As specified in OMB Circular Cost Principles, indirect costs are those that have been incurred for common or joint objectives and cannot be readily identified with a particular cost objective. In order to utilize grant funds for indirect costs incurred, the applicant must obtain an Indirect Cost Rate Agreement with its Federal Cognizant Agency either before or shortly after the grant award.

Administrative Costs. Under the PRI, an entity that receives a grant to carry out a project or program may not use more than 10 percent of the amount of the grant to pay administrative costs associated with the program or project. Administrative costs could be both direct and indirect costs and are defined at 20 CFR 667.220. Administrative costs do not need to be identified separately from program costs on the SF 424A Budget Information Form. They should be discussed in the budget narrative and tracked through the grantee's accounting system. To claim any administrative costs that are also indirect costs, the applicant must obtain an indirect cost rate agreement from its Federal cognizant agency as specified above.

Salary and bonus limitations. In compliance with Pub. L. 109-234 and Pub. L. 110-5, none of the funds appropriated in Pub. L. 109-149, Pub. L. 110-5, or prior Acts under the heading “Employment and Training” that are available for expenditure on or after June 15, 2006, shall be used by a recipient or sub-recipient of such funds to pay the salary and bonuses of an individual, either as direct costs or indirect costs, at a rate in excess of Executive Level II, except as provided for under section 101 of Public Law 109-149. This limitation shall not apply to vendors providing goods and services as defined in OMB Circular A-133. See Training and Employment Guidance Letter number 5-06 for further clarification: http://wdr.doleta.gov/directives/corr_doc.cfm?DOCN=2262.

Legal Rules Pertaining to Inherently Religious Activities by Organizations that Receive Federal Financial Assistance. The government is generally prohibited from providing direct financial assistance for inherently religious activities (please see 29 CFR Part 2, Subpart D). These grants may not be used for religious instruction, worship, prayer, proselytizing or other inherently religious activities except as provided in those regulations. Therefore, organizations must take steps to separate, in time or location, their inherently religious activities from the services funded under this program. Neutral, non-religious criteria that neither favor nor disfavors religion will be employed in the selection of grant recipients and must be employed by grantees in the selection of sub-recipients.

A faith or community-based organization receiving ETA funds retains its independence from federal, state, and local governments, and may continue to carry out its mission, including the definition, practice, and expression of its religious beliefs. For example, a faith or community-based organization may use space in its facilities to provide secular programs or services funded with federal funds without removing religious art, icons, scriptures, or other religious symbols. In addition, a faith or community-based organization that receives federal funds retains its authority over its internal governance, and it may retain religious terms in its organization's name, select its board members on a religious basis, and include religious references in its organization's mission statements and other governing documents in accordance with all program requirements, statutes, and other applicable requirements governing the conduct of ETA funded activities.

Faith and community-based organizations may also reference ETA Training and Employment Guidance Letter (TEGL) No. 01-05 (July 6, 2005), available at http://wdr.doleta.gov/directives/corr_doc.cfm?DOCN=2088. Faith and community-based organizations may learn about equal treatment and religion-related regulations through the DOL's new online training course at Workforce3one (http://www.workforce3one.org). The course can be found by typing the key words—equal treatment—in the search box on the upper right hand corner of the page. If you are previously registered on this site, you can find the course directly at http://www.workforce3one.org/public/_shared/detail.cfm?id=5566&simple=false.

ETA Intellectual Property Rights. Applicants should note that grantees must agree to provide ETA a paid-up, nonexclusive and irrevocable license to reproduce, publish, or otherwise use for federal purposes all products developed or for which ownership was purchased under an award, including but not limited to curricula, training models, technical assistance products, and any related materials, and to authorize them to do so. Such uses include, but are not limited to, the right to modify and distribute such products worldwide by any means, electronically or otherwise.

Additional Requirements. Federal funds may not be used to pay any royalty or licensing fee associated with such copyrighted material, although they may be used to pay costs for obtaining a copy which are limited to the developer/seller costs of copying and shipping. If revenues are generated through selling products developed with grant funds, including intellectual property, these revenues are program income. Program income is added to the grant and must be expended for allowable grant activities.

F. Withdrawal of Applications

Applications may be withdrawn by written notice at any time before an award is made. Applications may be withdrawn in person by the applicant or by an authorized representative thereof, if the representative's identity is made known and the representative signs a receipt for the proposal.

V. Application Review Information

A. Evaluation Criteria

What will be the criteria for award?

Panelists will rate proposals based on the following criteria, which are explained in detail in Section I(D) of this SGA. These criteria and point values are:

1. What is the need for the project in the county to be served by the grant? (10 points)

2. What Is the Project Design and Service Strategy? (55 points)

3. How have you coordinated in the past and how do you plan to coordinate with State criminal justice agencies, probation, and parole in the operation of your program? (20 points)

4. What is the quality and experience of your organization to operate this initiative? (15 points)

B. Review and Selection Process

How will applications be reviewed and selected?

Applications for the Prisoner Re-entry Initiative Grants will be accepted after the publication of this announcement until the closing date. A technical review panel will make a careful evaluation of applications against the criteria set forth in Section V(A) of this Solicitation. These criteria are based on the policy goals, priorities, and emphases set forth in this SGA. Up to 100 points may be awarded to an application, based on the required information described in detail in Section I(D) of this Solicitation. The ranked scores will serve as the primary basis for selection of applications for funding. If only one organization applies within a county, a review panel will assess that application and a technical acceptability determination will be made. If determined to be technically unacceptable, DOL reserves the right to not make an award within that county. Final selections will be based on what is most advantageous to the Government, and are contingent upon availability of funds. The panel results are advisory in nature and not binding on the Grant Officer, who may consider any information that comes to his attention. DOL may elect to award the grant(s) with or without prior discussions with the applicants. Should a grant be awarded without discussions, the award will be based on the applicant's signature on the SF 424, which constitutes a binding offer.

VI. Award Administration Information

A. Award Notices

All award notifications will be posted on the ETA homepage (http://www.doleta.gov). Applicants selected for award will be contacted directly before the grant's execution. Applicants not selected for award will be notified by mail.

B. Administrative and National Policy Requirements

1. Administrative Program Requirements

All grantees will be subject to all applicable Federal laws, regulations, and the applicable OMB Circulars. The grant(s) awarded under this SGA will be subject to the following administrative standards and provisions:

a. Non-Profit Organizations—OMB Circulars A-122 (Cost Principles) and 29 CFR Part 95 (Administrative Requirements).

b. Educational Institutions—OMB Circulars A-21 (Cost Principles) and 29 CFR Part 95 (Administrative Requirements).

c. State and Local Governments—OMB Circulars A-87 (Cost Principles) and 29 CFR Part 97 (Administrative Requirements).

d. Profit Making Commercial Firms—Federal Acquisition Regulation (FAR)—48 CFR Part 31 (Cost Principles), and 29 CFR Part 95 (Administrative Requirements).

e. All entities must comply with 29 CFR Parts 93 and 98, and, where applicable, 29 CFR Parts 96 and 99.

f. 29 CFR Part 2, subpart D—Equal Treatment in Department of Labor Programs for Religious Organizations, Protection of Religious Liberty of Department of Labor Social Service Providers and Beneficiaries.

g. 29 CFR Part 31—Nondiscrimination in Federally Assisted Programs of the Department of Labor—Effectuation of Title VI of the Civil Rights Act of 1964.

h. 29 CFR Part 32—Nondiscrimination on the Basis of Handicap in Programs and Activities Receiving or Benefiting from Federal Financial Assistance.

i. 29 CFR Part 33—Enforcement of Nondiscrimination on the Basis of Handicap in Programs or Activities Conducted by the Department of Labor.

j. 29 CFR Part 35—Nondiscrimination on the Basis of Age in Programs or Activities Receiving Federal Financial Assistance from the Department of Labor.

k. 29 CFR Part 36-Nondiscrimination on the Basis of Sex in Education Programs or Activities Receiving Federal Financial Assistance.

The following administrative standards and provisions may be applicable:

a. Workforce Investment Act—20 Code of Federal Regulations (CFR) Part 667. (General Fiscal and Administrative Rules);

b. 29 CFR Part 30—Equal Employment Opportunity in Apprenticeship and Training; and

c. 29 CFR Part 37—Implementation of the Nondiscrimination and Equal Opportunity Provisions of the Workforce Investment Act of 1998.

In accordance with Section 18 of the Lobbying Disclosure Act of 1995 (Pub. L. 104-65) (2 U.S.C. 1611) non-profit entities incorporated under Internal Revenue Service Code Section 501(c)(4) that engage in lobbying activities are not eligible to receive Federal funds and grants.

Note: Except as specifically provided in this Notice, DOL/ETA's acceptance of a proposal and an award of Federal funds to sponsor any program(s) does not provide a waiver of any grant requirements and/or procedures. For example, OMB Circulars require that an entity's procurement procedures must ensure that all procurement transactions are conducted, as much as practical, to provide open and free competition. If a proposal identifies a specific entity to provide services, the DOL/ETA's award does not provide the justification or basis to sole source the procurement, i.e., avoid competition, unless the activity is regarded as the primary work of an official partner to the application.

C. Special Program Requirements

Evaluation. DOL will require that the program or project participate in an evaluation of overall performance of Prisoner Re-entry Grants. To measure the impact of the Prisoner Re-entry Grants, ETA may arrange for or conduct an independent evaluation of the outcomes and benefits of the projects. Grantees must agree to make records on participants, employers and funding available, and to provide access to program operating personnel and participants, as specified by the evaluator(s) under the direction of ETA, including after the expiration date of the grant.

D. Reporting

The grantee is required to provide the reports and documents listed below:

Quarterly Financial Reports. A Quarterly Financial Status Report (ETA-9130) is required until such time as all funds have been expended or the grant period has expired. Quarterly reports are due 45 days after the end of each calendar year quarter, including the last calendar quarter of the grant period. Grantees must use ETA's On-Line Electronic Reporting System.

Quarterly Performance Reports. FBCOs will be required to submit updated performance data on enrollment, services provided, placements, outcomes, and follow-up status. A government-procured MIS system will be provided to all grantees. Grantees will be required to have industry-standard computer hardware and high-speed Internet access in order to use the MIS system. Grant funds may be used with the prior approval of the Grant Officer to upgrade computer hardware and Internet access to enable projects to use the MIS system.

Quarterly Narrative Reports. The grantee must submit a quarterly narrative report to the designated Federal Project Officer within 30 days after the end of each quarter. Two copies are to be submitted providing a detailed account of activities undertaken during that quarter. DOL may require additional data elements to be collected and reported on either a regular basis or special request basis. Grantees must agree to meet DOL reporting requirements. The quarterly progress report should be in narrative form and should include:

1. In-depth information on accomplishments, including project success stories, upcoming grant activities, and promising approaches and processes.

2. Progress toward performance outcomes, including updates on product, curricula, and training development.

Quarterly financial reports, quarterly performance reports, and quarterly narrative reports will all be provided electronically.

Final Report. A final report must be submitted no later than 60 days after the expiration date of the grant. This report must summarize project activities, employment outcomes, and related results of the training project, and should thoroughly document capacity building and training approaches. The final report should also include copies of all deliverables, e.g., curricula and competency models. Three copies of the final report must be submitted to ETA, and grantees must agree to use a designated format specified by DOL for preparing the final report. A Closeout Financial Status Report is due 90 days after the end of the grant period.

Record Retention. Applicants should be aware of Federal guidelines on record retention, which require grantees to maintain all records pertaining to grant activities for a period of not less than 3 years from the time of final grant closeout.

VII. Agency Contacts

For further information regarding this SGA, please contact Jeannette Flowers, Grants Management Specialist, Division of Federal Assistance, at (202) 693-3332. (Please note this is not a toll-free number.) Applicants should fax all technical questions to (202) 693-2705 and must specifically address the fax to the attention of Jeannette Flowers and should include SGA/DFA PY 08-03, a contact name, fax and phone number, and e-mail address. This announcement is being made available on the ETA Web site at http://www.doleta.gov/sga/sga.cfm, at http://www.grants.gov, as well as the Federal Register.

VIII. Additional Resources and Other Information

Resources for the Applicant

DOL maintains a number of web-based resources that may be of assistance to applicants.

• The Workforce ³ One Web site, http://www.workforce3one.org, is a valuable resource for information about demand-driven projects of the workforce investment system, educators, employers, and economic development representatives.

• America's Service Locator (http://www.servicelocator.org) provides a directory of the nation's One-Stop Career Centers.

• Career Voyages (http://www.careervoyages.gov), a Web site targeted at youth, parents, counselors, and career changers, provides information about career opportunities in high-growth/high-demand industries.

• Applicants are encouraged to review “Help with Solicitation for Grant Applications” (http://www.doleta.gov).

• For a basic understanding of the grants process and basic responsibilities of receiving Federal grant support, please see “Guidance for Faith-Based and Community Organizations on Partnering with the Federal Government” (http://www.whitehouse.gov/government/fbci/guidance/index.html).

Other Information

OMB Information Collection No. 1225-0086.

Expires September 30, 2009

According to the Paperwork Reduction Act of 1995, no persons are required to respond to a collection of information unless such collection displays a valid OMB control number. Public reporting burden for this collection of information is estimated to average 20 hours per response, including time for reviewing instructions, searching existing data sources, gathering and maintaining the data needed, and completing and reviewing the collection of information. Send comments regarding the burden estimated or any other aspect of this collection of information, including suggestions for reducing this burden, to the OMB Desk Officer for ETA, Office of Management and Budget, Room 10235, Washington, DC 20503. PLEASE DO NOT RETURN THE COMPLETED APPLICATION TO THE OMB. SEND IT TO THE SPONSORING AGENCY AS SPECIFIED IN THIS SOLICITATION.

This information is being collected for the purpose of awarding a grant. The information collected through this “Solicitation for Grant Applications” will be used by the Department of Labor to ensure that grants are awarded to the applicant best suited to perform the functions of the grant. Submission of this information is required for the applicant to be considered for award of this grant. Unless otherwise specifically noted in this announcement, information submitted in the respondent's application is not considered to be confidential.

Signed at Washington, DC, this 29th day of August 2008.
James Stockton,
Employment and Training Administration, Grant Officer.

[FR Doc. E8-20570 Filed 9-4-08; 8:45 am]

BILLING CODE 4510-30-P